DEPARTMENT OF DEFENSE

Department of the Navy

Privacy Act of 1974; System of Records

AGENCY: Department of the Navy, DoD.

ACTION: Notice to amend a system of records.

SUMMARY: The Department of the Navy is amending a system of records notice in its existing inventory of records systems subject to the Privacy Act of 1974, (5 U.S.C. 552a), as amended.

DATES: This proposed action will be effective without further notice on June 14, 2004, unless comments are received which result in a contrary determination.

ADDRESSES: Send comments to Department of the Navy, PA/FOIA Policy Branch, Chief of Naval Operations, (DNS-36), 2000 Navy Pentagon, Washington, DC 20350-2000.

FOR FURTHER INFORMATION CONTACT: Mrs. Doris Lama at (202) 685-6545 or DSN 325-6545.

SUPPLEMENTARY INFORMATION: The Department of the Navy systems of records notices subject to the Privacy Act of 1974, (5 U.S.C. 552a), as amended, have been published in the Federal Register and are available from the address above.

The specific changes to the records systems being amended are set forth below followed by the notices, as amended, published in their entirety. The proposed amendments are not within the purview of subsection (r) of the Privacy Act of 1974, (5 U.S.C. 552a), as amended, which requires the submission of a new or altered system report.

Dated: May 7, 2004.
L.M. Bynum,
Alternate OSD Federal Register Liaison Officer, Department of Defense.

N01650-1

System name:

Awards Information Management System and Records (May 9, 2003, 68 FR 24959).

Changes:

System name:

Replace entry with ‘Navy Military Awards System.’

System location:

Delete entry and replace with ‘Navy Department Awards System, Naval Computer Telecommunications Station, 1325 10th Street, Washington Navy Yard, DC 20374-5069; and organizational elements of the Department of the Navy. Official mailing addresses are published in the Standard Navy Distribution List that is available at http://neds.nebt.daps.mil/sndl.htm.’

Categories of individuals covered by the system:

Delete entry and replace with ‘All recipients of Navy personal awards, to include the U.S. Coast Guard, and Navy military personnel who receive personal awards from other U.S. Armed Forces.’

Categories of records in the system:

Delete entry and replace with ‘Approved individual personal awards for 1967 and continuing; approved unit awards for 1941 and continuing; Navy Department Awards Web Service—File includes awards approved by the Secretary of the Navy and those authorized for approval by subordinate commanders. Record includes service member's name, service number/Social Security Number, award recommended, and award approved. A second section of the file contains activities awarded Unit Awards and the dates of eligibility; microfilm copies of approved World War II—1967 personal awards; Navy Department Awards Web Service electronic data base that includes data extracted from OPNAV form 1650/3, Personal Award Recommendation, such as name, Social Security Number, type of award, approval authority, recommended award, approved award, meritorious start and end dates, service status of recipient, originator of the recommendation, designator, Unit Identification Codes, officer or enlisted, service component, rate/rating, pay grade, number of award recommended, assigned billet of individual, campaign designation, classified or unclassified designated award, date of recommendation, award approved date, approved award, chain of command data, extraordinary heroism determination, letter type, board serial number, pertinent facts, date forwarded to Secretary of the Navy, Board's recommendation, participating command field, Board meeting data, receipt date by Board of Decorations and Medals, name of unit, name of ship, command points of contact that includes telephone numbers and e-mail addresses, etc.’

Authority for maintenance of the system:

Delete entry and replace with ‘10 U.S.C. 5013, Secretary of the Navy; Secretary of the Navy Instruction 1650.1G, Navy and Marine Corps Awards Manual; and E.O. 9397 (SSN).’

Purpose(s):

Delete entry and replace with ‘To maintain record of military personal awards and unit awards and to electronically process award recommendations.’

* * * * *

Storage:

Delete entry and replace with ‘Electronic, paper, and microfilm records.’

Retrievability:

Delete entry and replace with ‘Name, Social Security Number, and individual unit name.’

* * * * *

Record source categories:

Delete entry and replace with ‘Navy Department Awards Web Service; OPNAV Form 1650/3, Personal Award Recommendation Form; general orders; military personnel file; medical file; deck logs; command histories; and award letter 1650.’

* * * * *

N01650-1

System name:

Navy Military Awards System.

System location:

Navy Department Awards System, Naval Computer Telecommunications Station, 1325 10th Street, Washington Navy Yard, DC 20374-5069; and organizational elements of the Department of the Navy. Official mailing addresses are published in the Standard Navy Distribution List that is available at http://neds.nebt.daps.mil/sndl.htm.

Categories of individuals covered by the system:

All recipients of Navy personal awards, to include the U.S. Coast Guard, and Navy military personnel who receive personal awards from other U.S. Armed Forces.

Categories of records in the system:

Approved individual personal awards for 1967 and continuing; approved unit awards for 1941 and continuing; Navy Department Awards Web Service—File includes awards approved by the Secretary of the Navy and those authorized for approval by subordinate commanders. Record includes service member's name, service number/Social Security Number, award recommended, and award approved. A second section of the file contains activities awarded Unit Awards and the dates of eligibility; microfilm copies of approved World War II—1967 personal awards; Navy Department Awards Web Service electronic data base that includes data extracted from OPNAV Form 1650/3, Personal Award Recommendation, such as name, Social Security Number, type of award, approval authority, recommended award, approved award, meritorious start and end dates, service status of recipient, originator of the recommendation, designator, Unit Identification Codes, officer or enlisted, service component, rate/rating, pay grade, number of award recommended, assigned billet of individual, campaign designation, classified or unclassified designated award, date of recommendation, award approved date, approved award, chain of command data, extraordinary heroism determination, letter type, board serial number, pertinent facts, date forwarded to Secretary of the Navy, Board's recommendation, participating command field, Board meeting data, receipt date by Board of Decorations and Medals, name of unit, name of ship, command points of contact that includes telephone numbers and e-mail addresses, etc.

Authority for maintenance of the system:

10 U.S.C. 5013, Secretary of the Navy; Secretary of the Navy Instruction 1650.1G, Navy and Marine Corps Awards Manual; and E.O. 9397 (SSN).

Purpose(s):

To maintain records of military personal awards and unit awards and to electronically process award recommendations.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ that appear at the beginning of the Navy's compilation of systems of records notices apply to this system.

Policies and practices for storing, retrieving, accessing, retaining, and disposing of records in the system:

Storage:

Electronic, paper, and microfilm records.

Retrievability:

Name, Social Security Number, and individual unit name.

Safeguards:

Automated database requires authorized access; password protected; some user sites only have read capability; designated user capability regarding add/delete/change functions. Paper and microfiche records are under the control of authorized personnel during working hours and the office space in which records are located is locked outside official working hours.

Retention and disposal:

Permanent. A duplicate copy of the active file is provided to the National Archives and Records Administration. History files for the years 1967 to 1989 have been transferred to NARA.

System manager(s) and address:

Chief of Naval Operations (DNS-37), 2000 Navy Pentagon, Washington, DC 20350-2000.

Notification procedure:

Individuals seeking to determine whether this system of records contains information about themselves should contact their local Personnel Support Activity of Personnel Support Detachment for a search of their Navy military personnel record or write to the Chief of Naval Operations (DNS-37) 2000 Navy Pentagon, Washington, DC 20350-2000.

Request should include full name, Social Security Number, time period of award, and request must be signed.

Record access procedures:

Individuals seeking access to records about themselves contained in this system of records should contact their local Personnel Support Activity or Personnel Support Detachment for a search of their Navy military personnel record or write to the Chief of Naval Operations (DNS-37) 2000 Navy Pentagon, Washington, DC 20350-2000.

Request should include full name, Social Security Number, time period of award, and request must be signed.

Contesting record procedures:

The Navy's rules for accessing records and contesting contents and appealing initial agency determinations are published in Secretary of the Navy Instruction 5211.5; 32 CFR part 701; or may be obtained from the system manager.

Record source categories:

Navy Department Awards Web Service; OPNAV Form 1650/3, Personal Award Recommendation Form; general orders; military personnel file; medical file; deck logs; command histories; and award letter 1650.

Exemptions claimed for the system:

None.

[FR Doc. 04-10827 Filed 5-17-04; 8:45 am]

BILLING CODE 5001-06-M